FEDERAL TRANSIT ADMINISTRATION

FTA Supplemental Fiscal Year 2012 Apportionments, Allocations, and Program Information

AGENCY: Federal Transit Administration (FTA), DOT.

ACTION: Notice.

SUMMARY: The Federal Transit Administration (FTA) annually publishes one or more notices apportioning funds appropriated by law. In some cases, if less than a full year of funds is available, FTA publishes multiple partial apportionment notices. This notice announces the full fiscal year (FY) 2012 contract authority, for programs authorized under the Safe, Accountable, Flexible, Efficient, Transportation Equity Act: A Legacy for Users (SAFETEA-LU).

FOR FURTHER INFORMATION CONTACT: For general information about this notice contact Jamie Pfister, Director, Office of Transit Programs, at (202) 366-2053. Please contact the appropriate FTA regional office for any specific requests for information or technical assistance. A list of FTA regional offices and contact information is available on the FTA Web site at http://www.fta.dot.gov.

I. Overview

FTA's current authorization, the Safe, Accountable, Flexible, Efficient, Transportation Equity Act: A Legacy for Users (SAFETEA-LU), expired September 30, 2009. Since that time, Congress has enacted short-term extensions allowing FTA to continue its current programs. The Surface Transportation Extension Act of 2012, Part II, Found in Division G of Moving Ahead for Progress in the 21st Century (MAP-21), Public Law 112-141, continues the authorization of the Federal transit programs of the U.S. Department of Transportation (DOT) through September 30, 2012. It extends contract authority for the Formula and Bus Grants programs totaling $8,360,565,000 until September 30, 2012. The provisions and funding levels of MAP-21 become effective on October 1, 2012.

Additionally, FTA's full-year appropriations bill (Pub. L. 112-055, the Consolidated and Further Continuing Appropriations Act, 2012), hereinafter (“Appropriations Act, 2012”) was enacted in November 2011, providing FTA appropriated General Fund resources for all of FY 2012 for Administrative Expenses, Capital Investment Grants, and Research programs and grants to the Washington Metropolitan Area Transportation Authority. The Appropriations Act, 2012 also provided a full fiscal year obligation limitation of $8,360,565,000 on contract authority made available to FTA programs funded from the Mass Transit Account of the Highway Trust Fund during this fiscal year.

On January 11, 2012, FTA published an apportionments notice that apportioned the FY 2012 authorized contract authority among potential program recipients based on contract authority that was available from October 1, 2011 through March 31, 2012 (see Federal Register, Volume 77, No. 7). That notice also provided relevant information about the FY 2012 funding available, program requirements, period of availability, prior year unobligated balances, and other related program information and highlights.

On May 9, 2012, FTA published a supplemental apportionments notice that apportioned the FY 2012 authorized contract authority based on the authority that was available from October 1, 2011 through June 30, 2012 based on the Surface Transportation Extension Act of 2012, Public Law 112-102, which continued the authorization of the Federal transit programs of the U.S. Department of Transportation (DOT) through June 30, 2012 and extended contract authority for the Formula and Bus Grants programs at approximately seventy-five percent of the FY 2011 levels until June 30 2012. Copies of the January 11 and May 9 notices and accompanying tables can be found on the FTA Web site at http://www.fta.dot.gov/apportionments.

This document apportions the full FY 2012 authorized contract authority of $8,360,565,000 among potential program recipients according to statutory formulas in 49 U.S.C. Chapter 53 as authorized under SAFETEA-LU. Tables displaying the funds available to eligible states and urbanized areas have been posted on FTA's Web site at http://www.fta.dot.gov/apportionments.

Beginning in FY 2013, FTA will apportion funds made available under the formula programs authorized under MAP-21 and based on the statutory formulas included in MAP-21. FTA will also use urbanized area and demographic data from the 2010 Census beginning in the FY 2013 apportionments.

This notice does not include reprogramming of discretionary funds that lapsed to the designated project as of September 30, 2011 or the allocation of FY 2012 discretionary resources.

Issued in Washington, DC, this 13th day of July 2012.
Peter Rogoff,
Administrator.

[FR Doc. 2012-17447 Filed 7-17-12; 8:45 am]

BILLING CODE P